DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Hearing of the Subcommittee on Privacy, Confidentiality, and Security.

Dates and Times: Monday, September 14, 2020: 9:30 a.m.-5:30 p.m.

Place: U.S. Department of Health and Human Services Virtual.

Status: Open.

Purpose: At the September 14, 2020, hearing, the National Committee on Vital and Health Statistics (NCVHS), Subcommittee on Privacy, Confidentiality, and Security, will explore the privacy, confidentiality, and security considerations for data collection and use during a public health emergency, in light of the nationwide COVID-19 pandemic.

The Subcommittee will hear from invited experts and review written testimony received in advance from interested individuals, organizations, and stakeholders.

At the hearing, NCVHS will receive input from public health practitioners, academics, advocates, representatives of industry, and other experts about data stewardship principles designed to guide the privacy and security of individually identifiable health information when new technologies are deployed for public health surveillance during an emergency. These are expected to touch on new uses of medical, geolocation, proximity, or adjacency data; social media; contact tracing applications; privacy and security guardrails essential to responsible use of data when creating and employing new tools; and future use and lifecycle management of individually identifiable health data. The Committee will also consider concerns raised by privacy, civil rights, and public interest advocates about the potential for discrimination and harm when information intended to protect the public is repurposed for other uses, such as law enforcement, immigration, or unrelated research or commercial enterprise.

The Committee will use this input to inform development and dissemination of best practices for safeguarding individually identifiable health data collected, used, and shared during a pandemic or long-term nationwide public health emergency.

The Committee requests comments from the public to inform its deliberations in advance and will consider them together with the input of subject matter experts at the hearing. The Committee has developed specific questions to ensure comments address key issues under consideration, available at: https://ncvhs.hhs.gov/Sept-2020-PCS-Subcommittee-Hearing-Public-Comment-Questions. Please submit comments using the questions provided at this link to NCVHSmail@cdc.gov by close of business Wednesday, September 9, 2020.

There will be a public comment period at the meeting. The meeting times and topics are subject to change. Please refer to the NCVHS website for information and agenda updates.

Contact Person for More Information:

Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS website: https://ncvhs.hhs.gov/. Further information, including an agenda and instructions to access the broadcast of the meeting, will be posted on the NCVHS website.

Should you require reasonable accommodation, please contact the CDC Office of Equal Employment Opportunity on (770) 488-3210 as soon as possible.

Sharon Arnold,
Associate Deputy Assistant Secretary for Planning and Evaluation, Science and Data Policy, Office of the Assistant Secretary for Planning and Evaluation.

[FR Doc. 2020-18248 Filed 8-19-20; 8:45 am]

BILLING CODE 4150-05-P